DEPARTMENT OF JUSTICE

Notice of Lodging of a Consent Decree Pursuant to the Comprehensive Environmental Response, Compensation, and Liability Act

Notice is hereby given that a proposed consent decree in United States v. Tennessee Farmers Cooperative et. al., Civil Action Number 3-02-0132-Nixon was lodged on February 8, 2002, with the United States District Court for Middle District of Tennessee, Nashville Division. The proposed Consent Decree would resolve certain claims under sections 107 of the Comprehensive Environmental Response, Compensation, and Liability Act of 1980, 42 U.S.C. 9606 & 9607, as amended brought against Tennessee Farmers Cooperative, Scott Fetzer Company, Multimedia, Inc. and R.T. Rivers to recover response costs incurred by the Environmental Protection Agency in connection with the release of hazardous substances at the Wrigley Charcoal Superfund Site (“site”) in Wrigley, Hickman County, Tennessee. The United States alleges that Settling Defendants are liable either as persons who currently own or owned a portion of the Site at the time of disposal of a hazardous substance or as persons who arranged for the disposal of hazardous substances at the Site. Under the proposed Consent Decree, the Settling Defendants will pay $860,000 to the Hazardous Substances Superfund to reimburse the United States for response costs incurred and to be incurred at the Site. In addition, the proposed Consent Decree also resolves Settling Defendants' potential claims against the Department of Defense (“DOD”) in exchange for DOD's reimbursement to EPA of $450,000.

The Department of Justice will receive, for a period of thirty (30) days from the date of this publication, comments relating to the proposed Consent Decree. Comments should be addressed to the Assistant Attorney General for the Environment and Natural Resources Division, Department of Justice, P.O. Box 7611, Washington, DC 20530, and should refer to United States v. Tennessee Farmers Cooperative et. al., Civil Action number 3-02-0132-Nixon, DOJ Ref. #90-11-3-06823.

The Consent Decree may be examined at the Region 4 Office of the Environmental Protection Agency, 61 Forsyth Street, Atlanta, GA 30303 and the United States Attorney's Office for the Middle District of Tennessee, 110 Ninth Avenue South, Suite A961, Nashville, TN 37203 c/o Assistant U.S. Attorney Michael Roden. A copy of the proposed consent decree may be obtained by mail from the Consent Decree Library, Post Office Box 7611, Washington, DC 20044. In requesting copies please refer to the referenced case and enclose a check in the amount of $12.00 (25 cents per page reproduction costs), payable to the Consent Decree Library.

Ellen Mahan,
Environmental Enforcement Section, Assistant Section Chief, Environment and Natural Resources Division.

[FR Doc. 02-4313 Filed 2-21-02; 8:45 am]

BILLING CODE 4410-15-M